DEPARTMENT OF DEFENSE

[DoD-2007-OS-0133]

Office of the Secretary of Defense; Privacy Act of 1974; Systems of Records

AGENCY: Defense Logistics Agency, DoD.

ACTION: Notice to Delete Eight Systems of Records.

SUMMARY: The Defense Logistics Agency is deleting eight systems of records notices to its existing inventory of record systems subject to the Privacy Act of 1974 (5 U.S.C. 552a), as amended.

DATES: This action will be effective without further notice on January 17, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The Defense Logistics Agency proposes to delete eight systems of records notices from its inventory of record systems subject to the Privacy Act of 1974 (5 U.S.C. 552a), as amended. The proposed deletions are not within the purview of subsection (r) of the Privacy Act of 1974 (5 U.S.C. 552a), as amended, which requires the submission of new or altered systems reports.

December 11, 2007.
L.M. Bynum,
Alternate OSD Federal Register Liaison Officer, Department of Defense.

S322.10 DMDC

SYSTEM NAME:

Defense Manpower Data Center Data Base (January 8, 2007, 72 FR 737).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 01, Defense Manpower Data Center Data Base on October 1, 2007, 72 FR 55752; therefore, DLA is deleting this notice from its Privacy Act systems of records inventory.

S322.50 DMDC

SYSTEM NAME:

Defense Eligibility Records (January 8, 2007, 72 FR 730).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 02, Defense Eligibility Records on October 1, 2007, 72 FR 55757; therefore, DLA is deleting this notice from its Privacy Act systems of records inventory.

S322.01 DMDC

SYSTEM NAME:

Defense Outreach Referral System (DORS) (June 5, 2006, 71 FR 32327).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 03, Defense Outreach Referral System (DORS) on October 2, 2007, 72 FR 56066; therefore, DLA is deleting this notice from its Privacy Act systems of records inventory.

S322.05 DMDC

SYSTEM NAME:

Noncombatant Evacuation and Repatriation Data Base (June 5, 2006, 71 FR 32328).

REASON:

The Defense Manpower Data Center (DMDC) no longer receives Privacy Act program support from the Defense Logistics Agency(DLA). DMDC will receive privacy support from the Office of the Secretary of Defense (OSD) under Administrative Instruction 81. The above system notice was transferred to the OSD's inventory of Privacy Act systems of records as DMDC 04, Noncombatant Evacuation and Repatriation Data Base on October 2, 2007, 72 FR 56067; therefore, DLA is deleting this notice from its Privacy Act systems of records inventory.

S322.09 DMDC

SYSTEM NAME:

Joint Duty Assignment Management Information System. (June 5, 2006, 71 FR 32330).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 05, Joint Duty Assignment Management Information System on October 2, 2007, 72 FR 56069; therefore, DLA is deleting this notice from its Privacy Act systems of records inventory.

S322.11 DMDC

SYSTEM NAME:

Federal Creditor Agency Debt Collection Data Base (May 4, 2007, 72 FR 25269).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 06, Federal Creditor Agency Debt Collection Data Base on October 2, 2007, 72 FR 56069; therefore, DLA is deleting this notice from its Privacy Act systems of records inventory.

S322.15 DMDC

SYSTEM NAME:

Defense Incident-Based Reporting System (DIBRS) (May 25, 2007, 72 FR 29308).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 07, Defense Incident-Based Reporting System (DIBRS) on October 2, 72 FR 56062; therefore, DLA is deleting this notice from its Privacy Act systems of records inventory.

S322.35 DMDC

SYSTEM NAME:

Survey and Census Data Base (June 5, 2006, 71 FR 32331).

REASON:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 08, Survey and Census Data Base on October 2, 2007, 72 FR 56062; therefore, DLA is deleting this notice from its Privacy Act systems of records inventory.

[FR Doc. E7-24460 Filed 12-17-07; 8:45 am]

BILLING CODE 5001-06-P